BUREAU OF CONSUMER FINANCIAL PROTECTION

[Docket No. CFPB-2017-0011]

Request for Information Regarding the Small Business Lending Market; Extension

AGENCY: Bureau of Consumer Financial Protection.

ACTION: Notice; extension of comment period.

SUMMARY: On May 15, 2017, the Consumer Financial Protection Bureau (CFPB or Bureau) published a Request for Information Regarding the Small Business Lending Market (RFI), which provides that comments must be received on or before July 14, 2017. On May 23, 2017, the Bureau received a letter from thirteen industry trade associations requesting a 60-day comment period extension for this RFI. The additional time is requested in order to develop meaningful responses to the RFI. The Bureau believes the extension will allow all stakeholders the opportunity to provide more robust responses that will further develop the Bureau's understanding of the small business lending market and support its rulemaking process to implement section 1071 of the Dodd-Frank Wall Street Reform and Consumer Protection Act (Dodd-Frank Act). In response to this request, the Bureau has determined that a 60-day extension of the comment period is appropriate.

DATES: The comment period for the Request for Information Regarding the Small Business Lending Market, published May 15, 2017, at 82 FR 22318, is extended. Responses must now be received on or before September 14, 2017.

ADDRESSES: You may submit responsive information and other comments, identified by Docket No. CFPB-2017-0011, by any of the following methods:

• Electronic: Go to http://www.regulations.gov. Follow the instructions for submitting comments.

• Email: FederalRegisterComments@cfpb.gov. Include Docket No. CFPB-2017-0011 in the subject line of the email.

• Mail: Monica Jackson, Office of the Executive Secretary, Consumer Financial Protection Bureau, 1700 G Street NW., Washington, DC 20552.

• Hand Delivery/Courier: Monica Jackson, Office of the Executive Secretary, Consumer Financial Protection Bureau, 1275 First Street NE., Washington, DC 20002.

Instructions: Please note the number associated with any question to which you are responding at the top of each response (you are not required to answer all questions to receive consideration of your comments). The Bureau encourages the early submission of comments. All submissions must include the document title and docket number. Because paper mail in the Washington, DC area and at the Bureau is subject to delay, commenters are encouraged to submit comments electronically. In general, all comments received will be posted without change to http://www.regulations.gov. In addition, comments will be available for public inspection and copying at 1275 First Street NE., Washington, DC 20002, on official business days between the hours of 10 a.m. and 5 p.m. Eastern Time. You can make an appointment to inspect the documents by telephoning 202-435-7275.

All submissions, including attachments and other supporting materials, will become part of the public record and subject to public disclosure. Sensitive personal information, such as account numbers or Social Security numbers, or names of other individuals, should not be included. Submissions will not be edited to remove any identifying or contact information.

FOR FURTHER INFORMATION CONTACT: For general inquiries, submission process questions or any additional information, please contact Monica Jackson, Office of the Executive Secretary, at 202-435-7275.

SUPPLEMENTARY INFORMATION: On May 15, 2017, the Consumer Financial Protection Bureau published a RFI ¹ to learn more about the small business lending market. Section 1071 Dodd-Frank Act amends the Equal Credit Opportunity Act (ECOA) to require financial institutions to compile, maintain, and report information concerning credit applications made by women-owned, minority-owned, and small businesses. In an effort to inform the Bureau's work on the business lending data collection rulemaking to implement section 1071, the Bureau seeks to learn more about the small business financing market, including understanding more about the products that are offered to small businesses, including women-owned and minority-owned small businesses, as well as the financial institutions that offer such credit. The Bureau also seeks to learn more about the business lending data that currently is used and may be maintained by financial institutions in connection with credit applications made by small businesses, including women-owned and minority-owned small businesses, and the potential complexity and cost of small business data collection and reporting. The Bureau is also seeking comment from the public on privacy concerns related to the disclosure purposes of section 1071.

¹ Request for Information Regarding the Small Business Lending Market, 82 FR 22318 (May 15, 2017).

On May 23, 2017, the Bureau received a letter from thirteen industry trade associations requesting a 60-day comment period extension for this RFI. The additional time is requested in order to develop meaningful responses to the RFI. The Bureau believes the extension will allow all stakeholders the opportunity to provide more robust responses that will further develop the Bureau's understanding of the small business lending market and support its rulemaking process to implement section 1071 of the Dodd-Frank Act. In response to this request, the Bureau has determined that a 60-day extension of the comment period is appropriate.

Authority: 12 U.S.C. 5511(c)

Dated: July 4, 2017.
Richard Cordray,
Director, Bureau of Consumer Financial Protection.

[FR Doc. 2017-14599 Filed 7-11-17; 8:45 am]

BILLING CODE 4810-AM-P